DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on May 25, 2006. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The February 23, 2006, notice should be used as a reference point to identify changes. The numbering system in this notice corresponds with the numbering system in the February 23, 2006, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

WD—Water District

Pacific Northwest Region: Bureau of Reclamation, 1150 North Curtis Road, Suite 100, Boise, Idaho 83706-1234, telephone 208-378-5344.

Modified contract action:

16. Four irrigation water user entities, Boise Project, Idaho: Long-term renewal and/or conversion of four irrigation water service contracts for supplemental irrigation use of up to 6,018 acre-feet of storage space in Lucky Peak Reservoir, a Corps of Engineers' project on the Boise River, Idaho.

Mid-Pacific Region: Bureau of Reclamation, 2800 Cottage Way, Sacramento, California 95825-1898, telephone 916-978-5250.

New Contract Actions

42. Cawelo WD, CVP, California: Long-term Warren Act contract for conveying nonproject water for a non-CVP contractor.

43. Elk Creek Community Services District, CVP, California: Renewal of long-term water service contract for up to 100 acre-feet for a period of 25 years.

Completed Contract Action

23. Sacramento River Settlement Contracts, CVP, California: Five contracts remain to be executed out of a total of 145 contracts and one contract with Colusa Drain Mutual Water Company; water quantities for these contracts total 2.2M acre-feet. These contracts will be renewed for a period of 40 years. The contracts reflect agreements to settle disputes over water rights' claims on the Sacramento River and the Colusa Basin Drain. Contracts executed February 22, 2006; March 28, 2006; April 7, 2006; April 10, 2006; and May 8, 2006.

Lower Colorado Region: Bureau of Reclamation, PO Box 61470 (Nevada Highway and Park Street), Boulder City, Nevada 89006-1470, telephone 702-293-8081.

New Contract Action

41. City of Needles and The Metropolitan WD of Southern California, Lower Colorado Water Supply Project, California: Contract for acquisition and delivery of Lower Colorado Water Supply Project water.

Completed Contract Actions

24. Tohono O'odham Nation, CAP, Arizona: Amend CAP water delivery contract pursuant to the Arizona Water Settlements Act, Pub. L. 108-451, enacted December 10, 2004. Contract executed May 5, 2006.

40. The Metropolitan WD of Southern California, BCP, California: Contract to implement a demonstration program to create intentionally created surplus through extraordinary conservation in 2006 and 2007 and store this water in Lake Mead. Contract executed May 26, 2006.

Upper Colorado Region: Bureau of Reclamation, 125 South State Street, Room 6107, Salt Lake City, Utah 84138-1102, telephone 801-524-3864.

New Contract Action

33. North Fork Water Conservancy District and Ragged Mountain Water Users Association, Paonia Project, Colorado: North Fork and Ragged Mountain have requested a contract for supplemental water from the Paonia Project. This contract is for municipal uses.

Completed Contract Action

1.(f) GW Spore Family Minor Subdivision, Aspinall Storage Unit, CRSP: GW Spore has requested a 40-year water service contract for 1 acre-foot of water out of Blue Mesa Reservoir. They have submitted their augmentation plan to Water District 4, case No. 05 CW 220. Contract executed March 22, 2006.

Great Plains Region: Bureau of Reclamation, PO Box 36900, Federal Building, 316 North 26th Street, Billings, Montana 59107-6900, telephone 406-247-7752.

New Contract Actions

47. City of Grand Junction, City of Fruita, and Town of Palisade (Municipal Recreation Agreement); Colorado-Big Thompson Project; Colorado: Negotiation of renewal of Municipal Recreation Agreement to provide historic users pool surplus water from Green Mountain Reservoir for nonconsumptive municipal recreation uses.

48. Colorado River Water Conservation District, Ruedi Reservoir, Fryingpan-Arkansas Project, Colorado: Consideration of a request for a second round water sales or repayment contract from the regulatory capacity of Ruedi Reservoir for up to 5,000 acre-feet annually for M&I uses and also providing water to the endangered fish and supplementing in-stream flows.

Modified Contract Actions

19. Clark Canyon Water Supply Company, East Bench Unit, P-SMBP, Montana: Negotiating renewal of contract No. 14-06-600-3592 which was amended to expire December 31, 2006. Current contract may be amended again to extend the term not to exceed an additional 1 year pursuant to Section 208 of the 2005 Consolidated Appropriations Act if necessary and agreed to by both parties.

20. East Bench ID, East Bench Unit, P-SMBP, Montana: Negotiating renewal of contract No. 14-06-600-3593 which was amended to expire December 31, 2006. Current contract may be amended again to extend the term not to exceed an additional 1 year pursuant to Section 208 of the 2005 Consolidated Appropriations Act if necessary and agreed to by both parties.

Completed Contract Action

40. Mark H. Allredge, H.S. Properties LLC (Individual); Boysen Unit, P-SMBP; Wyoming: Renewal of long-term water service contract for up to 84 acre-feet of supplemental irrigation water to serve 84 acres. Contract executed March 24, 2006.

Dated: June 30, 2006.
Roseann Gonzales,
Director, Office of Program and Policy Services.

[FR Doc. E6-12418 Filed 8-1-06; 8:45 am]

BILLING CODE 4310-MN-P